DEPARTMENT OF DEFENSE

Department of the Army; Corps of Engineers

Notice of Intent to Grant Partially Exclusive License of U.S. Patent Application No. 11/82,432 Entitled “A Method and System for Treating Metal-Containing Fluid Emissions” and U.S. Patent Application No. 10/931,232 “Perlite Sorbents for Vapor Phase Metals and Metals Compounds” to Bouldin & Lawson, LLC

AGENCY: Department of the Army, U.S. Army Corps of Engineers, DOD.

ACTION: Notice; correction.

SUMMARY: The notice published in the Federal Register on January 25, 2008 (73 FR 4544) was missing the corporation name. The partially exclusive license will be granted to Bouldin & Lawson, LLC., 70 Easy Street, McMinnville, TN 37110.

FOR FURTHER INFORMATION CONTACT: Ms. Bea Shahin, (217) 373-7234, Fax (217) 373-7210; Internet: Bea.S.Shahin@usace.army.mil.

SUPPLEMENTARY INFORMATION: None.

Brenda S. Bowen,
Army Federal Register Liaison Officer.

[FR Doc. E8-2358 Filed 2-7-08; 8:45 am]

BILLING CODE 3710-92-P